DEPARTMENT OF VETERANS AFFAIRS

National Research Advisory Council; Notice of Meeting

The Department of Veterans Affairs (VA) gives notice under the Federal Advisory Committee Act, 5 U.S.C., App. 2, that the National Research Advisory Council will hold a meeting on Wednesday, December 7, 2016, in Conference Room 730 at 810 Vermont Ave NW., Washington, DC. The meeting will convene at 9:00 a.m. and end at 3:00 p.m. This meeting is open to the public.

The agenda will include reviews of the recommendations of the sub-committees on the Air Force Health Study and the Technology Transfer Program. Additionally, a briefing on the Office of Research and Development Communications Strategy will be given.

No time will be allocated at this meeting for receiving oral presentations from the public. Members of the public wanting to attend may contact Pauline Cilladi-Rehrer, Designated Federal Officer, ORD (10P9), Department of Veterans Affairs, 810 Vermont Avenue NW., Washington, DC 20420, at (202) 443-5607, or by email at pauline.cilladi-rehrer@va.gov. no later than close of business on November 30, 2016. Because the meeting is being held in a government building, a photo I.D. must be presented at the Guard's Desk as a part of the clearance process. Due to security protocols, and in order to prevent delays in clearance processing, you should allow an additional 30 minutes before the meeting begins. Any member of the public seeking additional information should contact Pauline Ciladi-Rehrer at the phone number or email address noted above.

Dated: November 14, 2016.
LaTonya L. Small,
Advisory Committee Management Officer.

[FR Doc. 2016-27706 Filed 11-17-16; 8:45 am]

BILLING CODE P